DEPARTMENT OF COMMERCE

International Trade Administration

[A-351-825]

Stainless Steel Bar From Brazil: Final Results of Antidumping Duty Administrative Review

AGENCY: Import Administration, International Trade Administration, Department of Commerce.

SUMMARY: On November 3, 2010, the Department of Commerce (the Department) published the preliminary results of its administrative review of the antidumping duty order on stainless steel bar from Brazil. The review covers one producer/exporter of the subject merchandise, Villares Metals S.A. (VMSA). The period of review is February 1, 2009, through January 31, 2010. We gave interested parties an opportunity to comment on our preliminary results. We received no comments on our preliminary results. The final weighted-average dumping margin for VMSA is listed below in the “Final Results of Review” section of this notice.

DATES: Effective Date: January 11, 2011.

FOR FURTHER INFORMATION CONTACT: Sandra Stewart or Minoo Hatten, AD/CVD Operations, Office 5, Import Administration, International Trade Administration, U.S. Department of Commerce, 14th Street and Constitution Avenue, NW., Washington, DC 20230, telephone: (202) 482-0768 or (202) 482-1690, respectively.

SUPPLEMENTARY INFORMATION:

Background

On November 3, 2010, the Department published the preliminary results of its administrative review of the antidumping duty order on stainless steel bar (SSB) from Brazil. See Stainless Steel Bar From Brazil: Preliminary Results of Antidumping Duty Administrative Review, 75 FR 67689 (November 3, 2010) (Preliminary Results). We invited interested parties to comment on the Preliminary Results. We did not receive comments from any interested parties.

The Department has conducted this administrative review in accordance with section 751 of the Tariff Act of 1930, as amended (the Act).

Scope of the Order

The scope of the order covers SSB. The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to the order is currently classifiable under subheadings 7222.10.0005, 7222.10.0050, 7222.20.0005, 7222.20.0045, 7222.20.0075, and 7222.30.0000 of the Harmonized Tariff Schedule of the United States (HTSUS). Although the HTSUS subheadings are provided for convenience and customs purposes, the written description of the scope of the order is dispositive.

Changes Since the Preliminary Results

We identified a slight programming syntax error in our calculations after publication of the Preliminary Results. We have corrected the syntax error for the final results. Despite this correction, the dumping margin for VMSA remains unchanged. For a more detailed description of this change please see the final analysis memorandum for VMSA, dated concurrently with this notice, which is on file in the Department's Central Records Unit, Room 7046 of the main Commerce building.

Final Results of Review

As announced in the Preliminary Results, we disregarded sales at prices below cost in the home market when determining normal value in the course of this administrative review. As a result of our review, we determine that the weighted-average dumping margin of 4.07 percent exists for VMSA for the period February 1, 2009, through January 31, 2010.

Assessment Rates

The Department shall determine, and CBP shall assess, antidumping duties on all appropriate entries. In accordance with 19 CFR 351.212(b)(1), we have calculated importer/customer-specific assessment rates for these final results of review. For sales where VMSA reported entered value, we divided the total dumping margins (calculated as the difference between normal value and EP) for the reviewed sales by the total entered value of those reviewed sales for each reported importer or customer. For sales where entered value was not reported, we divided the total dumping margins for each exporter's importer or customer by the total number of units the exporter sold to that importer or customer. We will instruct CBP to assess the resulting importer/customer-specific ad-valorem rate or per-unit dollar amount, as appropriate, on all entries of subject merchandise made by the relevant importer or customer during the period of review. See 19 CFR 351.212(b).

The Department clarified its “automatic assessment” regulation on May 6, 2003. This clarification will apply to entries of subject merchandise during the period of review produced by VMSA for which VMSA did not know its merchandise was destined for the United States. In such instances, we will instruct CBP to liquidate unreviewed entries of VMSA-produced merchandise at the all-others rate if there is no rate for the intermediate company(ies) involved in the transaction. For a full discussion of this clarification, see Antidumping and Countervailing Duty Proceedings: Assessment of Antidumping Duties, 68 FR 23954 (May 6, 2003).

The Department intends to issue instructions to CBP 15 days after the publication of these final results of review.

Cash-Deposit Requirements

The following deposit requirements will be effective upon publication of this notice of final results of administrative review for all shipments of SSB from Brazil entered, or withdrawn from warehouse, for consumption on or after the date of publication, as provided by section 751(a)(2)(C) of the Act: (1) The cash-deposit rate for VMSA will be 4.07 percent; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; (4) if neither the exporter nor the manufacturer has its own rate, the cash-deposit rate will be the all-others rate for this proceeding, 19.43 percent. See Notice of Final Determination of Sales at Less Than Fair Value: Stainless Steel Bar From Brazil, 59 FR 66914 (December 28, 1994). These deposit requirements shall remain in effect until further notice.

Notification to Parties

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

These final results of administrative review are issued and published in accordance with sections 751(a)(1) and 777(i)(1) of the Act.

Dated: January 4, 2011.
Ronald K. Lorentzen,
Deputy Assistant Secretary for Import Administration.

[FR Doc. 2011-395 Filed 1-10-11; 8:45 am]

BILLING CODE 3510-DS-P